NATIONAL AERONAUTICS AND SPACE ADMINISTRATION

[Notice (02-037)]

National Environmental Policy Act; NASA Routine Payloads for Expendable Launch Vehicles

AGENCY: National Aeronautics and Space Administration (NASA).

ACTION: Notice of availability of draft environmental assessment (DEA) for launch of NASA routine spacecraft as payloads on expendable launch vehicles.

SUMMARY: Pursuant to the National Environmental Policy Act of 1969 (NEPA), as amended (42 U.S.C. 4321 et seq.), the Council on Environmental Quality Regulations for Implementing the Procedural Provisions of NEPA (40 CFR parts 1500-1508), and NASA policy and procedures (14 CFR part 1216 subpart 1216.3), NASA has prepared and issued a DEA for launch of NASA routine spacecraft as payloads on expendable launch vehicles. This DEA addresses the potential environmental impacts associated with preparing and implementing the launch of missions that are designated routine payloads on U.S. expendable launch vehicles from existing U.S. facilities using established procedures. The spacecraft covered by this DEA (referred to as routine payload spacecraft) would meet rigorously defined criteria ensuring that the spacecraft, their operation, and their decommissioning would not present any new or substantial environmental and safety concerns. A Routine Payload Checklist (RPC) is used to exclude missions from consideration as routine payloads if they include any extraterrestrial sample return; would be launched on a vehicle and launch pad combination not covered in this DEA; carry radioactive sources that could not be approved by the NASA Office of Safety and Mission Assurance (OSMA) Nuclear Flight Safety Assurance Manager (NFSAM); cause the manifested launch rate (per year) for a particular launch vehicle to exceed the rate previously approved and permitted at the launch sites; require the construction of any new facilities (or substantial modification of existing facilities); utilize hazardous materials in quantities exceeding the Envelope Payload Characteristics (EPCs); utilize potentially hazardous material whose type or amount would not be covered by new or existing local permits or is not included within the definition of the Envelope Spacecraft (ES); release material other than propulsion system exhaust or inert gases into the atmosphere; suggest the potential for any substantial impact on public health and safety not covered by this DEA; have the potential for substantial effects on the environment outside the United States; utilize an Earth-pointing laser system that does not meet the requirements for safe operations according to American National Standards Institute (ANSI) analysis techniques; carry live or inactive disease-causing biological agents; or have the potential to create substantial public controversy related to environmental issues. The proposed launches would occur from existing launch facilities at Cape Canaveral Air Force Station (CCAFS), Florida, and Vandenberg Air Force Base (VAFB), California, during the period 2002 to 2012. Spacecraft that comply with the RPC would utilize materials, quantities of materials, launch vehicles, and operational characteristics that are consistent with normal and routine spacecraft preparation and flight activities at VAFB, CCAFS, and Kennedy Space Center (KSC), Florida. Therefore, the environmental impacts of launching routine payload spacecraft would fall within the range of routine, ongoing, and previously documented impacts associated with approved programs that have been determined not to be significant. The purpose and need for this proposed action is to fulfill NASA's mission for Earth exploration, space exploration, technology development, and scientific research. The scientific missions associated with NASA routine payload spacecraft could not be accomplished without launching orbital and interplanetary spacecraft.

DATES: Comments must be provided in writing to NASA on or before April 15, 2002.

ADDRESSES: Comments should be addressed to Mark R. Dahl, Program Executive, NASA Headquarters, Code SM, Washington, DC 20546. Hard copy comments are preferred, but comments may be sent by electronic mail to mdahl@hq.nasa.gov. The DEA may be reviewed at the locations listed under the supplementary information in this notice.

FOR FURTHER INFORMATION CONTACT: Mark R. Dahl, 202-358-4800; mdahl@hq.nasa.gov. The DEA also is available in Acrobat® format at http://spacescience.nasa.gov/admin/pubs/routine_EA/index.htm.

SUPPLEMENTARY INFORMATION: U.S. space and Earth exploration is integral to NASA's strategic plan for carrying out its mission. NASA is also committed to the further development of advanced, low-cost technologies for exploring and utilizing space. To fulfill these objectives, a continuing series of scientific spacecraft would need to be designed, built, and launched into Earth orbit or towards other bodies in the Solar System. These spacecraft would flyby, encounter, orbit about, land on, or impact with these bodies to collect various scientific data that would be transmitted to Earth via radio for analysis. The scientific missions associated with NASA routine payload spacecraft could not be accomplished without launching such scientific spacecraft.

The proposed action is comprised of preparing, launching, and decommissioning missions designated NASA routine payload spacecraft. The design and operational characteristics and, therefore, the environmental impacts of routine payload spacecraft would be rigorously bounded. Routine payload spacecraft would utilize materials, launch vehicles, facilities, and operations that are normally and customarily used at Vandenberg Air Force Base (VAFB), California, and Cape Canaveral Air Force Station (CCAFS) and Kennedy Space Center (KSC), Florida. The routine payload spacecraft would use these materials, launch vehicles, facilities, and operations only within the scope of activities already approved or permitted. The scope of this DEA includes all spacecraft that would meet specific criteria on their construction and launch, would accomplish the requirements of NASA's research objectives, and would not present new or substantial environmental impacts or hazards. These spacecraft would meet the limitations set forth in the Routine Payload Checklist (RPC), which was developed to delimit the characteristics and environmental impacts of this group of spacecraft. Preparation and launch of all spacecraft that are defined as routine payloads would have environmental impacts that fall within the range of routine, ongoing, and previously documented impacts associated with approved missions that have been determined not to be significant. Alternative spacecraft designs that exceed the limitations of the RPC may have new or substantial environmental impacts or hazards and are not covered by this DEA. Foreign launch vehicles would require individual consideration, review, and separate environmental analysis, and were not considered to be reasonable alternatives for the purpose of this routine payload spacecraft DEA. The No-Action Alternative would mean that NASA would not launch scientific spacecraft missions defined as routine payloads using specific criteria and thresholds. NASA would then continue to propose spacecraft missions for individualized review under NEPA. Such duplicate analyses and redundant documentation for spacecraft missions that meet the limitations of the RPC, however, would not present any new information or identify any substantially different environmental impacts.

The expendable launch vehicles (ELVs) proposed for launching the routine payload spacecraft represent domestic (U.S.) ELVs that would be suitable for launching the routine payload spacecraft, would potentially be available during the 2002 to 2012 period, have documented environmental impacts, and would utilize existing launch facilities. The ELVs included in this action are the Atlas series, Delta series, Taurus, Athena series, Pegasus XL, and Titan II. These launch vehicles would accommodate the desired range of payload masses, would provide the needed trajectory capabilities, and would provide highly reliable launch services. Individual ELVs would be carefully matched to the launch requirements of each particular routine payload spacecraft. For the NASA routine spacecraft missions, the potentially affected environment for normal launches includes the areas at and in the vicinity of the two launch sites, CCAFS in Florida, and VAFB in California. For normal launches of routine payloads under the proposed action, the environmental impacts would be associated principally with the exhaust emissions from the launch vehicles. These effects would include short-term impacts on air quality within the exhaust cloud and near the launch pads, and the potential for acidic deposition on the vegetation and surface water bodies at and near each launch complex, particularly if a rain storm occurred. To minimize the potential for disturbance of protected wildlife species, consultation with the U.S. Fish and Wildlife Service under Section 7 of the Endangered Species Act of 1973 (as amended) is required. Routine payload processing and launch activities would not require any additional permits or mitigation measures beyond those already existing, or in coordination, for VAFB or CCAFS launches.

There are no direct or substantial environmental impacts, including cumulative impacts, associated with the proposed action that have not already been covered by NEPA documentation for the existing launch sites, launch vehicles, launch facilities, and payload processing facilities. NASA missions covered by this DEA would be manifested at VAFB or CCAFS and would be within the total number of launch operations previously analyzed in launch vehicle and launch site NEPA documents.

The DEA may be reviewed at the following locations:

(a) NASA Headquarters, Library, Room 1J20, 300 E Street, SW., Washington, DC 20546 (202-358-0167).

(b) Spaceport U.S.A., Room 2001, John F. Kennedy Space Center, FL 32899. Please call Penny Myers beforehand at 321-867-9280 so that arrangements can be made.

(c) Jet Propulsion Laboratory, Visitors Lobby, Building 249, 4800 Oak Grove Drive, Pasadena, CA 91109 (818-354-5179).

The DEA may be examined at the following NASA Centers by contacting the appropriate Freedom of Information Act Office:

(d) NASA, Ames Research Center, Moffett Field, CA 94035 (650-604-1181).

(e) NASA, Dryden Flight Research Center, P.O. Box 273, Edwards, CA 93523 (661-258-3689).

(f) NASA, Glenn Research Center at Lewis Field, 21000 Brookpark Road, Cleveland, OH 44135 (216-433-2755).

(g) NASA, Goddard Space Flight Center, Greenbelt Road, Greenbelt, MD 20771 (301-286-6255).

(h) NASA, Johnson Space Center, Houston, TX 77058 (281-483-8612).

(i) NASA, Langley Research Center, Hampton, VA 23681 (757-864-2497).

(j) NASA, Marshall Space Flight Center, Huntsville, AL 35812 (256-544-1837).

(k) NASA, Stennis Space Center, MS 39529 (228-688-2164).

Limited hard copies of the DEA are available, on a first request basis, by contacting Mr. Dahl at the address or telephone number indicated herein.

Jeffrey E. Sutton,
Assistant Administrator for Management Systems.

[FR Doc. 02-6169 Filed 3-13-02; 8:45 am]

BILLING CODE 7510-01-P